SECURITIES AND EXCHANGE COMMISSION

[Release No. 334-62114; File No. 265-26-01]

COMMODITY FUTURES TRADING COMMISSION

Joint CFTC-SEC Advisory Committee on Emerging Regulatory Issues

AGENCIES: Securities and Exchange Commission (“SEC”) and Commodity Futures Trading Commission (“CFTC”) (each, an “Agency,” and collectively, “Agencies”).

ACTION: Notice of meeting of Joint CFTC-SEC Advisory Committee on Emerging Regulatory Issues.

SUMMARY: The Joint CFTC-SEC Advisory Committee on Emerging Regulatory Issues is providing notice that it will hold a public meeting on Monday, May 24, 2010, in the Auditorium, Room L-002, at the SEC's main offices, 100 F Street, NE., Washington, DC. The meeting will begin at 9 a.m. (EST) and will be open to the public. The Committee meeting will be Webcast on the SEC's Web site at http://www.sec.gov. Persons needing special accommodations to take part because of a disability should notify a contact person listed below. The public is invited to submit written statements to the Committee.

The agenda for the meeting includes: (i) Opening remarks; (ii) the introduction of Committee members, (iii) discussion of Committee agenda and organization; (iv) discussion of the Joint CFTC-SEC report on the market events of May 6, 2010; and (v) discussion of next steps and closing comments.

Pursuant to 41 CFR 102-3.150(b), the Agencies are providing less than fifteen days notice of the meeting so that Committee members can quickly begin to conduct a review of the market events of May 6, 2010, and make recommendations related to market structure issues that may have contributed to the volatility, as well as disparate trading conventions and rules across various markets.

DATES: Written statements should be received on or before noon on Friday, May 21, 2010.

ADDRESSES: Because the Agencies will jointly review all comments submitted, interested parties may send comments to either Agency and need not submit responses to both Agencies. Respondents are encouraged to use the title “Joint CFTC-SEC Advisory Committee” to facilitate the organization and distribution of comments between the Agencies. Interested parties are invited to submit responses to:

Securities and Exchange Commission: Written comments may be submitted by the following methods:

Electronic Comments

• Use the SEC's Internet submission form (http://www.sec.gov/rules/other.shtml); or

• Send an e-mail to rule-comments@sec.gov.

Please include File No. 265-26-01 on the subject line.

Paper Comments

• Send paper comments in triplicate to Elizabeth M. Murphy, Secretary, Securities and Exchange Commission, 100 F St., NE., Washington 20549. All submissions should refer to File No. 265-26-01.

To help the SEC process and review your comments more efficiently, please use only one method. The SEC staff will post all comments on the SEC's Internet Web site (http://www.sec.gov/rules/other.shtml). Comments will also be available for Web site viewing and printing in the SEC's Public Reference Room, 100 F St., NE., Washington DC 20549, on official business days between the hours of 10 a.m. and 3 p.m. All comments received will be posted without change; we do not edit personal identifying information from your submissions. You should submit only information that you wish to make available publicly.

Commodity Futures Trading Commission:

• Written comments may be mailed to the Commodity Futures Trading Commission, Three Lafayette Centre, 1155 21st Street, NW., Washington, DC 20581, Attention: Office of the Secretary; transmitted by facsimile to the CFTC at (202) 418-5521; or transmitted electronically to Jointcommittee@cftc.gov. Reference should be made to “Joint CFTC-SEC Advisory Committee.”

FOR FURTHER INFORMATION CONTACT: Ronesha Butler, Special Counsel, at (202) 551-5629, Division of Trading and Markets, or Elizabeth M. Murphy, Committee Management Officer, at (202) 551-5400, Securities and Exchange Commission, 100 F St., NE., Washington DC 20549, or Martin White, Committee Management Officer, at (202) 418-5129, Commodity Futures Trading Commission, Three Lafayette Centre, 1155 21st Street, NW., Washington, DC 20581.

SUPPLEMENTARY INFORMATION: In accordance with Section 10(a) of the Federal Advisory Committee Act, 5 U.S.C. App. 1, § 10(a), James R. Burns and Timothy Karpoff, each Co-Designated Federal Officer of the Committee, acting jointly, have approved publication of this notice.

Dated: May 18, 2010.
By the Securities and Exchange Commission.
Elizabeth M. Murphy,
Committee Management Officer.
By the Commodity Futures Trading Commission.
Martin White,
Committee Management Officer.

[FR Doc. 2010-12301 Filed 5-20-10; 8:45 am]

BILLING CODE P